DEPARTMENT OF ENERGY

Federal Energy Regulatory Commission

[Docket No. EC04-92-000, et al.]

UniSource Energy Corporation, et al.; Electric Rate and Corporate Filings

September 15, 2004.

The following filings have been made with the Commission. The filings are listed in ascending order within each docket classification.

1. UniSource Energy Corporation; Tucson Electric Power Company; UNS Electric, Inc.; Saguaro Utility Group I Corp.; Saguaro Acquisition Corp.; Saguaro Utility Group L.P.

[Docket No. EC04-92-000]

Take notice that on September 15, 2004, UniSource Energy Corporation (UniSource Energy), Tucson Electric Power Company (TEP), UNS Electric, Inc., Saguaro Utility Group I Corp., Saguaro Acquisition Corp., and Saguaro Utility Group, L.P. (collectively Applicants) submitted an amendment to their joint application seeking all authorizations and approvals necessary for an indirect disposition of jurisdictional facilities pursuant to section 203 of the Federal Power Act in connection with the acquisition of UniSource Energy Corporation by Saguaro Utility Group I Corp. The amendment modifies Applicants' proposed market monitoring plan.

Comment Date: 5 p.m. eastern standard time on September 27, 2004.

2. Alabama Power Company

[Docket No. ER04-815-000]

Take notice that on September 1, 2004, Alabama Power Company (APC), filed a withdrawal of its May 5, 2004 filing in ER04-815-000.

Comment Date: 5 p.m. eastern standard time on September 22, 2004.

3. California Independent System Operator Corporation

[Docket No. ES04-49-000]

Take notice that on September 3, 2004, California Independent System Operator Corporation (California ISO) submitted an application pursuant to section 204 of the Federal Power Act seeking authorization to issue long-term debt in the form of bonds, notes and guarantees in an amount not to exceed $130 million.

California ISO also requests a waiver from the Commission's competitive bidding and negotiated placement requirements at 18 CFR 34.2.

Comment Date: 5 p.m. eastern standard time on September 28, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-2303 Filed 9-21-04; 8:45 am]

BILLING CODE 6717-01-P